DEPARTMENT OF THE INTERIOR

National Park Service

[N6955; NPS-WASO-NAGPRA-NPS0042091; PPWOCRADN0-PCU00RP14.R50000]

Notice of Intended Disposition: U.S. Department of the Interior, Bureau of Land Management, Colorado State Office, Lakewood, CO

AGENCY: National Park Service, Interior.

ACTION: Notice.

SUMMARY: In accordance with the Native American Graves Protection and Repatriation Act (NAGPRA), the U.S. Department of the Interior, Bureau of Land Management, Colorado State Office (BLM Colorado State Office), intends to carry out the disposition of human remains, associated funerary objects, unassociated funerary objects, sacred objects, or objects of cultural patrimony removed from Federal or Tribal lands to the lineal descendants, Indian Tribe, or Native Hawaiian organization with priority for disposition in this notice.

DATES: Disposition of the human remains or cultural items in this notice may occur on or after April 1, 2026. If no claim for disposition is received by March 2, 2027, the human remains or cultural items in this notice will become unclaimed human remains or cultural items.

ADDRESSES: Send written claims for disposition of the human remains or cultural items in this notice to Natalie Clark, Deputy Preservation Officer, Bureau of Land Management, Colorado State Office, 2815 H Road, Grand Junction, CO 81506, email BLM_CO_NAGPRA@blm.gov.

SUPPLEMENTARY INFORMATION: This notice is published as part of the National Park Service's administrative responsibilities under NAGPRA. The determinations in this notice are the sole responsibility of the BLM Colorado State Office and additional information on the human remains in this notice, including the results of consultation, can be found in the related records. The National Park Service is not responsible for the identifications in this notice.

Abstract of Information Available

Based on the information available, human remains representing at least one individual have been reasonably identified. The human remains consist of one phalanx, one medium to large bone, and multiple bone fragments. The one lot of unassociated funerary objects and/or sacred objects are beads, bone tubes, bone tools, ceramic sherds, faunal bone, stone tools, flakes, projectile points, and groundstone. The human remains and unassociated funerary objects and/or sacred objects were removed from Rio Blanco County, Colorado, specifically archaeological site 5RB104 (“Sky Aerie Promontory”), in 1993. At the time, the human remains of at least nine individuals were removed from the site and were reburied elsewhere circa 2000 in consultation and coordination with the Ute Indian Tribe of the Uintah and Ouray Reservation. The human remains in this notice are likely part of the original nine individuals. The site was heavily looted prior to excavation, resulting in the disassociation of cultural items from their original context. Due to the site disturbance, the funerary objects have been identified as unassociated because they were removed from a specific area where a burial site is known to have existed, but the burial site is no longer extant.

Determinations

The BLM Colorado State Office has determined that:

• The human remains described in this notice represent the physical remains of at least one individual of Native American ancestry.

• The one or more unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• The one or more sacred objects described in this notice are specific ceremonial objects needed by a traditional Native American religious leader for present-day adherents to practice traditional Native American religion, according to the Native American traditional knowledge of a lineal descendant, Indian Tribe, or Native Hawaiian organization.

• The Hopi Tribe of Arizona; Pueblo of Jemez, New Mexico; Pueblo of Zia, New Mexico; Southern Ute Indian Tribe of the Southern Ute Reservation, Colorado; Ute Indian Tribe of the Uintah & Ouray Reservation, Utah; and the Ute Mountain Ute Tribe have priority for disposition of the human remains or cultural item described in this notice.

Claims for Disposition

Written claims for disposition of the human remains or cultural items in this notice must be sent to the appropriate official identified in this notice under ADDRESSES. If no claim for disposition is received by March 2, 2027, the human remains or cultural items in this notice will become unclaimed human remains or cultural items. Claims for disposition may be submitted by:

1. Any lineal descendant, Indian Tribe, or Native Hawaiian organization identified in this notice.

2. Any lineal descendant, Indian Tribe, or Native Hawaiian organization not identified in this notice who shows, by a preponderance of the evidence, that they have priority for disposition.

Disposition of the human remains or cultural items in this notice may occur on or after April 1, 2026. If competing claims for disposition are received, the BLM Colorado State Office must determine the most appropriate claimant prior to disposition. Requests for joint disposition of the human remains or cultural items are considered a single request and not competing requests. The BLM Colorado State Office is responsible for sending a copy of this notice to the lineal descendants, Indian Tribes, and Native Hawaiian organizations identified in this notice and to any other consulting parties.

Authority: Native American Graves Protection and Repatriation Act, 25 U.S.C. 3002, and the implementing regulations, 43 CFR 10.7.

Dated: February 20, 2026.
Melanie O'Brien,
Manager, National NAGPRA Program.

[FR Doc. 2026-04042 Filed 2-27-26; 8:45 am]

BILLING CODE 4312-52-P